RAILROAD RETIREMENT BOARD

Proposed Collection; Comment Request

In accordance with the requirement of Section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection: Employee Representative's Status and Compensation Reports; OMB 3220-0014.

Under Section 1(b)(1) of the Railroad Retirement Act (RRA) (45 U.S.C. 231b), the term “employee” includes an individual who is an employee representative. As defined in Section 1(c) of the RRA, an employee representative is an officer or official representative of a railway labor organization other than a labor organization included in the term “employer,” as defined in the RRA, who before or after August 29, 1935, was in the service of an employer under the RRA and who is duly authorized and designated to represent employees in accordance with the Railway Labor Act, or, any individual who is regularly assigned to or regularly employed by such officer or official representative in connection with the duties of his or her office. The requirements relating to the application for employee representative status and the periodic reporting of the compensation resulting from such status is contained in 20 CFR 209.10.

The RRB utilizes Form DC-2, Employee Representative's Report of Compensation, to obtain the information needed to determine employee representative status and to maintain a record of creditable service and compensation resulting from such status. Completion is required to obtain or retain a benefit. One response is requested of each respondent. The RRB proposes no changes to Form DC-2.

Estimate of Annual Respondent Burden
Form No. | Annual responses | Time (minutes) | Burden (hours)
DC-2 | 82 | 30 | 41
Total | 82 |  | 41

2. Title and purpose of information collection: Application for Survivor Insurance Annuities; OMB 3220-0030.

Under Section 2(d) of the Railroad Retirement Act (RRA) (45 U.S.C. 231a), monthly survivor annuities are payable to surviving widow(er)s, parents, unmarried children, and in certain cases, divorced spouses, mothers (fathers), remarried widow(er)s, and grandchildren of deceased railroad employees if there are no qualified survivors of the employee immediately eligible for an annuity. The requirements relating to the annuities are prescribed in 20 CFR 216, 217, 218, and 219.

To collect the information needed to help determine an applicant's entitlement to, and the amount of, a survivor annuity the RRB uses Forms AA-17, Application for Widow(er)'s Annuity; AA-17b, Applications for Determination of Widow(er)'s Disability; AA-18, Application for Mother's/Father's and Child's Annuity; AA-19, Application for Child's Annuity; AA-19a, Application for Determination of Child's Disability; AA-20, Application for Parent's Annuity, and electronic Forms AA-17cert, Application Summary and Certification and AA-17sum, Application Summary.

The on-line automated survivor annuity application (Forms AA-17, AA-18, AA-19, and AA-20) process obtains information about an applicant's marital history, work history, benefits from other government agencies, and Medicare entitlement for a survivor annuity. An RRB representative interviews the applicant either at a field office (preferred), an itinerant point, or by telephone. During the interview, the RRB representative enters the information obtained into an on-line information system. Upon completion of the interview, the system generates, for the applicant's review, either Form AA-17cert or AA-17sum, which provides a summary of the information that the applicant provided or verified. Form AA-17cert, Application Summary and Certification, requires a tradition pen and ink “wet” signature. Form AA-17sum, Application Summary, documents the alternate signing method called “Attestation,” which is an action taken by the RRB representative to confirm and annotate in the RRB records (1) the applicant's intent to file an application; (2) the applicant's affirmation under penalty of perjury that the information provided is correct; and (3) the applicant's agreement to sign the application by proxy. When the RRB representative is unable to contact the applicant in person or by telephone, for example, the applicant lives in another country, a manual version of the appropriate form is used. One response is requested of each respondent. Completion of the forms is required to obtain a benefit.

The RRB proposes no changes to forms AA-17b, AA-17cert, AA-17sum, AA-19a.

Estimate of Annual Respondent Burden
Form No. | Annual responses | Time (minutes) | Burden (hours)
AA-17 Application Process:
AA-17cert | 900 | 20 | 300
AA-17sum | 2,100 | 19 | 665
AA-17b:
(With assistance) | 250 | 45 | 188
(Without assistance) | 20 | 55 | 18
AA-19a:
(With assistance) | 200 | 45 | 150
(Without assistance) | 15 | 65 | 16
Total | 3,485 |  | 1,337

3. Title and purpose of information collection: Nonresident Questionnaire; OMB 3220-0145.

Under Public Laws 98-21 (42 U.S.C. 410) and 98-76 (45 U.S.C. 231t), benefits under the Railroad Retirement Act payable to annuitants living outside the United States may be subject to taxation under United States income tax laws. Whether the social security equivalent and non-social security equivalent portions of Tier I, Tier II, vested dual benefit, or supplemental annuity payments are subject to tax withholding, and whether the same or different rates are applied to each payment, depends on a beneficiary's citizenship and legal residence status, and whether exemption under a tax treaty between the United States and the country in which the beneficiary is a legal resident has been claimed. To affect the required tax withholding, the Railroad Retirement Board (RRB) needs to know a nonresident's citizenship and legal residence status.

To secure the required information, the RRB utilizes Form RRB-1001, Nonresident Questionnaire, as a supplement to an application as part of the initial application process, and as an independent vehicle for obtaining the needed information when an annuitant's residence or tax treaty status changes. Completion is voluntary. One response is requested of each respondent.

The RRB proposes no changes to Form RRB-1001:

Estimate of Annual Respondent Burden
Form No. | Annual responses | Time (minutes) | Burden (hours)
RRB-1001 (Initial filing) | 300 | 30 | 250
RRB-1001 (Tax renewal) | 1,000 | 30 | 400
Total | 1,300 |  | 650

Additional Information or Comments: To request more information or to obtain a copy of the information collection justification, forms, and/or supporting material, contact Kennisha Tucker at (312) 469-2591 or Kennisha.Tucker@rrb.gov. Comments regarding the information collection should be addressed to Brian Foster, Railroad Retirement Board, 844 North Rush Street, Chicago, Illinois 60611-1275 or emailed to Brian.Foster@rrb.gov. Written comments should be received within 60 days of this notice.

Brian D. Foster,
Clearance Officer.

[FR Doc. 2022-06946 Filed 4-1-22; 8:45 am]

BILLING CODE 7905-01-P